DEPARTMENT OF TRANSPORTATION

Federal Transit Administration

Intent To Prepare an Environmental Impact Statement for the Downtown San Francisco Ferry Terminal Expansion Project in the City and County of San Francisco, CA

AGENCY: Federal Transit Administration (FTA), DOT.

ACTION: Notice of intent to prepare an environmental impact statement (EIS).

SUMMARY: The FTA, as the lead Federal agency, and the San Francisco Bay Area Water Emergency Transportation Authority (WETA) are planning to prepare an EIS for the proposed expansion and improvements to the Downtown San Francisco Ferry Terminal at the Port of San Francisco Ferry Building. The proposed project would serve commuters, visitors, and recreational users desiring an alternative way to cross San Francisco Bay, and reach nearby employment, entertainment, and recreational destinations in San Francisco. The project expands the number of ferry gates and improves ferry patron circulation, boarding, and wayfinding in and around the Ferry Building. In addition, the project enhances emergency response capabilities to evacuate people from San Francisco and/or mobilize first responders to San Francisco via ferries if a catastrophic event occurs. The EIS will be prepared in accordance with Section 102(2)C of the National Environmental Policy Act of 1969 (NEPA) and pursuant to the Council on the Environmental Quality's regulations (40 Code of Federal Regulations [CFR] parts 1500-08) as well as provisions of the recently enacted Safe, Accountable, Flexible Efficient Transportation Equity Act: A Legacy for Users (SAFETEA-LU). The purpose of this notice is to alert interested parties regarding the intent to prepare an EIS; provide information on the proposed transit project; invite participation in the EIS process, including comments on the scope of the EIS proposed in this notice; and announce when the public scoping meeting will be conducted.

DATES: Written comments on the scope of the EIS should be sent to Mike Gougherty, WETA Project Manager, by May 16, 2011. A public scoping meeting to accept comments on the scope of the EIS will be held on the following date:

• April 26, 2011, from 5:30 p.m. to 7:30 p.m., at Pier 1, Bayside Conference Room, San Francisco, California.

An interagency scoping meeting for agencies with interest in the project will be held on the following date:

• April 26, 2011 from 2 p.m. to 4 p.m. at the Pier 1, Bayside Conference Room, San Francisco, California.

The meeting will be accessible to persons with disabilities. If special translation or signing services or other special accommodations are needed, please contact Mike Gougherty at (415) 364-3189 at least 48 hours before the meeting. A scoping information packet is available on the WETA Web site at http://www.watertransit.org or by calling Mike Gougherty at (415) 364-3189. Copies will also be available at the scoping meeting.

ADDRESSES: Comments on the scope of the EIS will be accepted at the public scoping meeting, or written comments should be sent to Mike Gougherty, WETA Project Manager, San Francisco Bay Water Emergency Transportation Authority, Pier 9, Suite 111, The Embarcadero, San Francisco, CA, 94111.

FOR FURTHER INFORMATION CONTACT: Debra Jones, Environmental Protection Specialist, FTA, San Francisco Regional Office at (415) 744-3133.

SUPPLEMENTARY INFORMATION:

Scoping

The FTA and WETA invite all interested individuals and organizations, public agencies, and Native American Tribes to comment on the scope of the EIS, including the project's purpose and need, the alternatives to be studied, the impacts to be evaluated, and the evaluation methods to be used. Comments should address (1) feasible alternatives that may better achieve the project's need and purposes with fewer adverse impacts, and (2) any significant environmental impacts relating to the alternatives.

NEPA “scoping” (Title 40 of the CFR 1501.7) has specific and fairly limited objectives, one of which is to identify the significant issues associated with alternatives that will be examined in detail in the document, while simultaneously limiting consideration and development of issues that are not truly significant. It is in the NEPA scoping process that potentially significant environmental impacts—those that give rise to the need to prepare an environmental impact statement—should be identified; impacts that are deemed not to be significant need not be developed extensively in the context of the impact statement, thereby keeping the statement focused on impacts of consequence consistent with the ultimate objectives of the NEPA implementing regulations—“to make the environmental impact statement process more useful to decision makers and the public; and to reduce paperwork and the accumulation of extraneous background data, in order to emphasize the need to focus on real environmental issues and alternatives… [by requiring] impact statements to be concise, clear, and to the point, and supported by evidence that agencies have made the necessary environmental analyses.” Executive Order 11991, of May 24, 1977.

Once the scope of the environmental study, including significant environmental issues to be addressed, is settled, a scoping report will be prepared that: (1) Documents the results of the scoping process; (2) contributes to the transparency of the process; and (3) provides a clear roadmap for concise development of the environmental document.

Purpose and Need for the Project

The purpose of the Downtown San Francisco Ferry Terminal Expansion Project is to support and expand ferry service on San Francisco Bay, as established by WETA in its Implementation and Operations Plan (IOP), and in accordance with city and regional policies to encourage transit use. Furthermore, the project will address deficiencies in the transportation network that impede ferry operation and ferry patron access and circulation at the Downtown San Francisco Ferry Terminal. The project objectives include:

• Accommodate WETA's projected increase in ferry ridership and related ferry arrivals and departures from the Downtown San Francisco Ferry Terminal;

• Provide a viable alternative mode of transportation that accommodates projected increases in transbay trips, and helps alleviates congestion over the Bay Bridge and through the Bay Area Rapid Transit (BART) Transbay Tube;

• Address WETA's and the Port of San Francisco's (Port) emergency response needs;

• Establish a circulation plan and improved signage that provides clear pedestrian routes for ferry to bus and ferry to rail transfers, as well as safe routes for bikes, emergency vehicles, and delivery trucks to enter, park and exit the area;

• Provide necessary landside improvements, such as designated weather-protected areas for waiting and queuing, ticket machines and fare collection equipment, improved lighting, and improved boarding and arrival/departure information to serve ferry patrons and to enhance the Ferry Building as the central point of embarkation for ferries on San Francisco Bay; and

• Enhance the area's public access and open space with design features that create attractive, safe daytime and nighttime public spaces for both ferry patrons and other users of the Ferry Building area;

• Recognize the Port's land use planning and development proposals in and around the Ferry Building so as not to preclude, conflict with, or inhibit proposed development plans in the project vicinity.

WETA recognizes and supports the Port of San Francisco's land use planning and development proposals in and around the Ferry Building, including the historic renovation of the Agricultural Building and enhancements to the Ferry Plaza area. These Port initiatives are being planned and funded independent of the WETA project and, as a result, are not included as project elements. WETA will stage construction and manage and operate ferry services so they do not preclude, conflict with, or inhibit the Port's proposed development plans in the project vicinity.

Project Location and Environmental Setting

The project is located in the northeastern section of San Francisco, California, at the San Francisco Ferry Building, situated at the foot of Market Street. The study area encompasses Port of San Francisco property between Pier 1 on the north and Pier 14 on the south, and includes the Ferry Building, ferry gates, and the Ferry Plaza.

Possible Alternatives

A study of potential ferry terminal improvements at the San Francisco Ferry Building was completed by the Port in 1994. The planning process, summarized in the Downtown San Francisco Ferry Terminal Project, Concept Design—Stage 1 Final Report, addressed deficiencies in the circulation of pedestrians across the Embarcadero and through the Ferry Building; constraints imposed by previous design modifications of the Ferry Building that obscured wayfinding to the ferry gates; limited opportunities for public gathering and access to the Bay; and restricted commercial development within the building. A variety of design, configuration, and circulation improvements were considered. The Port selected those improvements that best met its long-term public service and facility objectives, and completed those projects, including construction of Gates B and E and the south basin breakwater at Pier 14, as Phase 1 of the Downtown San Francisco Ferry Terminal Project in 2003. This project builds on the previous improvements, described under the Action Alternative below. In addition to the Action Alternative, WETA considers the effects of doing nothing, identified as the No Action Alternative. Both the Action and No Action Alternatives are being considered in the EIS, as described below.

No Action Alternative. Six ferry routes currently serve the Downtown San Francisco Ferry Terminal. Today, the Downtown San Francisco Ferry Terminal has approximately 130 ferry arrivals and departures daily, serving more than 10,000 daily ferry patrons.

The existing Ferry Terminal gate configuration serves current ferry operations and provides the circulation areas to access these gates. The No Action Alternative maintains the existing ferry services, gate configuration, and circulation areas, including the function, uses, and design of the Ferry Building, which also serves as an important public space in San Francisco. No new gates or additional boarding capacity to accommodate new ferry services would occur as part of the No Action Alternative. Similarly, circulation and boarding improvements to respond to emergency planning requirements would not be implemented.

The No Action Alternative retains vehicle circulation and drop-off areas near the Ferry Building as well as the current circulation patterns for ferry patrons to access the ferry boarding areas. Pedestrian pathways to boarding locations for San Francisco Municipal Railway (Muni) bus and streetcar lines and the Amtrak bus would remain unchanged. Programmed Transbay bus and rail transit improvements identified in the Regional Transportation Plan would be implemented as part of the No Action Alternative. This alternative serves as the baseline against which the environmental effects of the other alternatives are measured.

Action Alternative. The Action Alternative incorporates modifications and improvements to the Ferry Terminal gates and ferry boarding areas to accommodate future WETA service and increased ferry patronage. Current estimates for 2025 projected daily ridership at the Ferry Terminal are approximately 35,000 passengers. The ridership projections account for existing service, plus new ferry services from downtown San Francisco to Berkeley, Treasure Island, Hercules, Richmond, Redwood City, Martinez, and Antioch to be initiated between 2014 and 2030. Service frequencies during the day and evenings would reflect the travel demand for commute and non-commute periods. Existing services operated by others (i.e., Sausalito, Larkspur, and Tiburon), and existing services operated by WETA (i.e., Vallejo, Alameda/Oakland, and Alameda Harbor Bay) would remain, but the access and boarding environments for these services would be improved by the project.

In addition, landside improvements to allow staging and circulation for possible emergency evacuation at the Ferry Building are included in the Action Alternative. The modifications and improvements are the responsibility of WETA in cooperation with the Port of San Francisco, with funding coming from Regional Measure 2, State Proposition 1B, and FTA.

The WETA-sponsored improvements represent sequential construction phases (Phase 2 and Phase 3). As noted previously, the Phase 2 and Phase 3 improvements build on those elements already completed by the Port in 2003 during Phase 1. Phase 2, which is expected to be completed by 2017, will include:

• Demolition and removal of Pier ½ and Pier 2;

• Construction of Gate A in the north basin, and Gates F and G in the south basin;

• Installation of boarding area amenities such as weather-protected areas for queuing, ticket machines and fare collection equipment, improved lighting, and ferry boarding and arrival/departure information signs;

• Widening of ferry access pathways along existing pedestrian promenades, and separation of ferry patron queuing from other pedestrian and vehicular movements where possible;

• Improved wayfinding signage in the vicinity of the Ferry Building, which will indicate ferry boarding areas and transit connections; and

• Filling in the lagoon to prepare for and accommodate staging and circulation of evacuees following a catastrophic event.

As new ferry gates are constructed, existing ferry services would relocate to new gates. Pier demolition and construction activities would be staged and sequenced to allow continuity of existing ferry services during construction. Demolition of Pier ½ would precede construction of Gate A. Similarly, demolition of Pier 2 would precede construction of Gate F. Gate G, which is designated for ferry services not expected to operate until 2020 or later, would serve as a vessel layover location, temporary storage area, and emergency boarding location in the interim. WETA's capital improvement plan synchronizes the purchase or leasing of vessels to meet future service and emergency response requirements.

Phase 3 is contingent on the implementation of the Treasure Island Redevelopment Plan. At full build-out, expected to occur sometime between 2020 and 2030, new commercial, recreational, and residential facilities on Treasure Island would require additional ferry capacity to serve substantial numbers of visitors and residents. The additional capacity would be provided by larger, bow-loading vessels purchased by the Treasure Island developer, and operated by WETA. The bow-loading vessels would necessitate the redesign of Gate E to accommodate the larger ferries.

Possible Effects

The purpose of this EIS process is to study, in a public setting, the potentially significant effects of the proposed project on the quality of the human environment. Primary areas of investigation for this project include, but are not limited to: land use, development potential, displacements, historic resources, visual and aesthetic qualities, air quality, noise and vibration, dredging and bay fill requirements, hazardous materials resulting from demolition and construction activities, traffic circulation and transportation linkages, pedestrian circulation, safety, security, and emergency response, bay habitat, and cumulative impacts. The environmental analysis may reveal that the proposed project will not affect, or affect substantially, many of those areas. However, if any adverse impacts are identified, measures to avoid, minimize, or mitigate those adverse impacts will be proposed.

FTA Procedures

Regulations implementing NEPA, as well as provisions of the Safe, Accountable, Flexible, Efficient Transportation Equity Act: A Legacy for Users (SAFETEA-LU), call for public involvement in the EIS process. Section 6002 of SAFETEA-LU (23 U.S.C. 139) requires that FTA and WETA do the following: (1) Extend an invitation to other Federal and non-Federal agencies and Native American Tribes that may have an interest in the proposed project to become “participating agencies;” (2) provide an opportunity for involvement by participating agencies and the public to help define the purpose and need for a proposed project, as well as the range of alternatives for consideration in the EIS; and (3) establish a plan for coordinating public and agency participation in, and comment on, the environmental review process. An invitation to become a participating or cooperating agency, with scoping materials appended, will be extended to other Federal and non-Federal agencies and Native American Tribes that may have an interest in the proposed project. It is possible that FTA and WETA will not be able to identify all Federal and non-Federal agencies and Native American Tribes that may have such an interest. Any Federal or non-Federal agency or Native American Tribe interested in the proposed project that does not receive an invitation to become a participating agency should notify at the earliest opportunity the Project Manager identified above under ADDRESSES.

A comprehensive public involvement program for public and interagency involvement will be developed for the project and posted on WETA's Web site: http://www.watertransit.org. The public involvement program includes a full range of activities including maintaining the project Web page on the WETA Web site and outreach to local officials, community and civic groups, and the public.

Paperwork Reduction

The Paperwork Reduction Act seeks, in part, to minimize the cost to the taxpayer of the creation, collection, maintenance, use, dissemination, and disposition of information. Consistent with this goal and with principles of economy and efficiency in government, it is FTA policy to limit insofar as possible distribution of complete printed sets of environmental documents. Accordingly, unless a specific request for a complete printed set of environmental documents is received (preferably in advance of printing), FTA and its grantees will distribute only the executive summary of the environmental document together with a compact disc of the complete environmental document. A complete printed set of the environmental document will be available for review at the grantee's offices and elsewhere; an electronic copy of the complete environmental document will also be available on the grantee's Web site.

Other

The EIS will be prepared in accordance with NEPA and its implementing regulations issued by the Council on Environmental Quality (40 CFR parts 1500-1508), and with the FTA/Federal Highway Administration regulations “Environmental Impact and Related Procedures” (23 CFR part 771).

Issued on: March 31, 2011.
Leslie T. Rogers,
Regional Administrator, FTA, Region 9.

[FR Doc. 2011-8227 Filed 4-6-11; 8:45 am]

BILLING CODE 4910-57-P